NATIONAL CAPITAL PLANNING COMMISSION

Public Comment Period on the Draft Memorials and Museums Master Plan

AGENCY: National Capital Planning Commission.

ACTION: Availability of the draft memorials and museums master plan and opening of the public comment period.

SUMMARY: The Joint Task Force on Memorials, comprised of the National Capital Planning Commission, the Commission of Fine Arts, and the National Capital Memorial Commission, has opened a 45-day public comment period on a Draft Memorials and Museums Master Plan. The draft master plan identifies 102 sites for new memorials and museums and provides general guidelines for where and how these facilities should be developed, as well as siting criteria and implementation strategies.

DATES: Public testimony on the proposal will be taken at a public meeting from 5:30 pm to 8:30 pm on Thursday, January 11, 2001.

ADDRESSES: The meeting will be held at the National Capital Planning Commission Office, 401 9th Street, NW, North Lobby, Suite 500, Washington, DC 20576.

SUPPLEMENTARY INFORMATION: Copies of the master plan are available from the National Capital Planning Commission, 401 9th Street, NW, North Lobby, Suite 500, Washington, DC 20576. Individuals interested in testifying at the meeting should call the National Capital Planning Commission, 202-482-7200, no later than 12:00 Noon the day before the meeting to register in advance. Members of the public who wish to testify and have not signed up in advance may sign up at the meeting before the start of the session. Each testifier will be limited to five minutes, and will generally be scheduled on a first-come basis. Written comments may be submitted before, during, or after the public meeting. Comments may be mailed to the attention of Ron Wilson at the National Capital Planning Commission. Comments may also be sent by fax: 202-482-7272 or by e-mail: info@ncpc.gov. All comments should be received by the end of the comment period, January 31, 2001.

FOR FURTHER INFORMATION CONTACT: Ron Wilson, 202-482-7242.

Dated: December 11, 2000.
Ash Jain,
General Counsel and Legislative Liaison, National Capital Planning Commission.

[FR Doc. 00-32210 Filed 12-18-00; 8:45 am]

BILLING CODE 7520-01-U